NATIONAL SCIENCE FOUNDATION

Agency Information Collection Activities: Comment Request

AGENCY: National Science Foundation.

ACTION: Submission for OMB review; Request for Comments.

SUMMARY: The National Science Foundation (NSF) has submitted the following information collection requirement to OMB for review and clearance under the paperwork Reduction Act of 1995, Public Law 104-13 (44 U.S.C. 3501 et seq.). The full submission may be found at: http://www.reginfo.gov/public/do/PRAMain. Comments are invited on (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230; telephone (703) 292-7556; or send e-mail to splimpto@nsf.gov. Comments regarding these information collections are best assured of having their full effect if received within 30 days of this notification. NSF may not conduct or sponsor a collection of information unless the collection of information displays a currently valid OMB control number and the agency informs potential persons who are to respond to the collection of information that such persons are not required to respond to the collection of information unless it displays a currently valid OMB control number.

SUPPLEMENTARY INFORMATION: Title: Survey of Graduate Students and Postdoctorates in Science and Engineering.

OMB Approval Number: 3145-0062.

Summary of Collection: The GSS is a census of all eligible academic institutions and all departments in science and engineering and health (SEH) programs in the United States. The GSS is the only national survey that collects information on the characteristics of graduate students and postdoctorates in specific science, engineering, and health disciplines at the department level. The characteristics collected include race/ethnicity, citizenship, gender, sources and mechanisms of financial support for graduate students and postdoctorates; and type of doctoral degree for the postdoctorates and other nonfaculty research staff with doctorates.

The survey will be collected in conformance with the National Science Foundation Act of 1950, as amended, and the Privacy Act of 1974. Responses from the institutions are voluntary. Survey results will be used for research or statistical purposes, analyzing data, and preparing scientific reports and articles. All tables and reports are made available in various electronic formats on the Web (http://www.nsf/gov/statistics/). The survey results are also into the Web-based Computer-Aided Science Policy Analysis and Research (WebCASPAR) database system. The URL for WebCASPAR is http://caspar.nsf.gov/webcaspar. A public release file is also made available on the World Wide Web.

Comment: On May 11, 2011 we published in the Federal Register (76 FR 27369) a 60-day notice of our intent to request reinstatement of this information collection authority from OMB. In that notice, we solicited public comments for 60 days ending July 11, 2011. One comment was received from the public notice. The comment came from Jean Public via e-mail on May 12, 2011. Ms. Public objected to the information collection and suggested less frequent collection.

Response: We responded to Ms. Public on May 26, 2011 describing the program, the survey frequency and the cost issues raised by Ms. Public. NSF believes that because the comment does not pertain to the collection of information on the required forms for which NSF is seeking OMB approval NSF is proceeding with the clearance request.

Need and Use of the Information: The Federal government, universities, researchers, and others use the information extensively. The National Science Foundation and the National Institutes of Health, publishes statistics from the survey in several reports, but primarily in the annual report series, “Survey of Graduate Students and Postdoctorates in Science and Engineering”, and the congressionally mandated biennial publication series, “Science and Engineering Indicators” and “Women, Minorities and Persons with Disabilities in Science and Engineering”.

Description of Respondents: Individuals.

Number of Respondents: 15,395.

Frequency of Responses: Annually.

Total Burden Hours: 40,201.

Dated: July 19, 2011.
Suzanne H. Plimpton,
Reports Clearance Officer, National Science Foundation.

[FR Doc. 2011-18590 Filed 7-21-11; 8:45 am]

BILLING CODE 7555-01-P